DEPARTMENT OF THE INTERIOR

Fish and Wildlife Service

[FWS-R4-R-2011-N172; 40136-1265-0000-S3]

Laguna Cartagena National Wildlife Refuge, PR; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Laguna Cartagena National Wildlife Refuge (NWR) in Lajas, Puerto Rico. In the final CCP, we describe how we will manage this refuge for the next 15 years.

ADDRESSES: You may obtain a copy of the CCP by writing to: Mr. Oscar Díaz, P.O. Box 510, Boquerón, PR 00622. Alternatively, you may download the document from our Internet Site: http://southeast.fws.gov/planning/ under “Final Documents.”

FOR FURTHER INFORMATION CONTACT: Mr. Oscar Díaz, at 787/851-7258 (telephone).

SUPPLEMENTARY INFORMATION:

Introduction

With this notice, we finalize the CCP process for the refuge. We started this process through a Federal Register notice on May 16, 2007 (72 FR 27588).

We announce our decision and the availability of the final CCP and FONSI for Laguna Cartagena NWR in accordance with the National Environmental Policy Act (NEPA) (40 CFR 1506.6(b)) requirements. We completed a thorough analysis of impacts on the human environment, which we included in the draft comprehensive conservation plan and environmental assessment (Draft CCP/EA).

Compatibility determinations for wildlife observation, wildlife photography, environmental education and interpretation, fishing, non-commercial harvesting of wild tropical fruits and plants, haying, research studies, wildlife surveying and monitoring, scientific collections, and camping (associated with environmental education, interpretation, and conservation projects) are available in the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on May 2, 2011 (76 FR 24511). Several comments were received.

Selected Alternative

We developed three alternatives for managing the refuge. After considering the comments we received and based on the professional judgment of the planning team, we selected Alternative B for implementation. Under Alternative B, we will provide greater management of all habitats and associated plant communities. We will reintroduce native fish to the lagoon and actively support birds that are threatened, endangered, or of management interest, including West Indian whistling ducks and kestrels.

Under this alternative, specific activities that will be expanded or introduced will include: (1) Initiating surveys for bats, breeding birds, waterfowl, and species such as the Puerto Rican nightjar, yellow-shouldered black bird, and short-eared owl; (2) managing endangered plant populations, including Aristida chaseae; (3) constructing a plant nursery and increasing native vegetative planting in the uplands; (4) reducing the occurrence of exotic species; and (5) managing the lagoon's water quality and open-water restoration efforts.

Under this alternative, we will conduct historical/archaeological surveys of the entire refuge. Visitor services facilities and programs will be expanded. Specifically, improving parking areas, providing additional directional signs, improving and updating our refuge Web site, creating a refuge brochure, developing a trail system and an additional photo platform at La Tinaja, and increasing onsite environmental education programs and community interpretive programs will all be undertaken under this alternative. We will also work to expand our volunteer program. Additional staff, such as a biologist, biological technician, two engineering equipment operators, forestry technician (fire), park ranger or environmental education specialist, GIS specialist (shared with other refuges in Puerto Rico, and law enforcement officer (shared with Cabo Rojo National Wildlife Refuge), will be needed to implement this management action.

Authority

This notice is published under the authority of the National Wildlife Refuge System Improvement Act of 1997, Public Law 105-57.

Dated: August 31, 2011.
Mark J. Musaus,
Acting Regional Director.

Editorial Note: This document was received at the Office of the Federal Register on August 20, 2012.

[FR Doc. 2012-20723 Filed 8-22-12; 8:45 am]

BILLING CODE 4310-55-P